DEPARTMENT OF TRANSPORTATION

Office of the Secretary

[Docket DOT-OST-2009-0292]

Michael R. Bennett and Workplace Compliance; Removal from the Public Interest Exclusion List

AGENCY: Office of the Secretary, DOT.

ACTION: Notice.

SUMMARY: The Department of Transportation (DOT) issued a decision and order under the Procedures for Transportation Workplace Drug and Alcohol Testing Programs excluding a service agent, Michael R. Bennett, Workplace Compliance, Inc. in North Carolina, Texas, and all other places it is incorporated, franchised, or otherwise doing business, and all other individuals who are officers, employees, directors, shareholders, partners, or other individuals associated with Workplace Compliance, Inc., from providing drug and alcohol testing services in any capacity to any DOT-regulated employer for a period of 5 years. Mr. Bennett and his company provided Medical Review Officer services to DOT-regulated employers directly and through other service agents when Mr. Bennett was not qualified to act as a Medical Review Officer. The 5-year period has ended and Mr. Bennett, et al., has been removed from the list of excluded service agents.

DATES: This notice is effective as of July 31, 2014.

FOR FURTHER INFORMATION CONTACT: Patrice M. Kelly, Acting Director, U.S. Department of Transportation, Office of Drug and Alcohol Policy and Compliance, 1200 New Jersey Avenue SE., Washington, DC 20590; (202) 366-3784 (voice), (202) 366-3897 (fax), or patrice.kelly@dot.gov.

SUPPLEMENTARY INFORMATION: The Department published notice of the Public Interest Exclusion for Michael R. Bennett, et al., on November 17, 2009 (74 FR 59340). The exclusion was effective until July 31, 2014. Shortly after that date, we removed Mr. Bennett from the DOT's list of Public Interest Exclusions on our Web site at: http://www.transportation.gov/odapc/pie. We are also notifying the public of the removal by publishing this Federal Register notice as required by 49 CFR 40.401(d).

Issued on October 6, 2015, in Washington DC.
Patrice M. Kelly,
Acting Director, Office of Drug and Alcohol Policy Compliance.

[FR Doc. 2015-25943 Filed 10-9-15; 8:45 am]

BILLING CODE 4910-9X-P